FEDERAL COMMUNICATIONS COMMISSION

47 CFR Part 73

[DA 01-2682; MM Docket No. 99-196; RM-9619, RM-9874]

Radio Broadcasting Services; Bethel Springs, Martin, Tiptonville, Trenton, South Fulton, TN

AGENCY: Federal Communications Commission.

ACTION: Proposed rule; dismissal.

SUMMARY: The Allocations Branch dismisses the petition for rule making filed by Sherry A. Brown proposing the allotment of Channel 249A at Bethel Springs, Tennessee, as being procedurally defective for failure to properly file comments in compliance with sections 1.415(b) and 1.420(e) of the Commission's Rules. See 64 FR 29979, June 4, 1999. In addition, the counterproposal filed by Thunderbolt Broadcasting Company, proposing two options for the substitution of Channel 267C3 for Channel 269A at Martin, and the reallotment of Channel 267C3 to South Fulton, Tennessee (described more fully in the Report and Order) is disposed of as follows: Option I is denied because it required the downgrade of vacant Channel 267C3 at Tiptonville, Tennessee, and there are expressions of interest for the Class C3 channel. Option II is dismissed for failure to be “technically correct” and “substantially complete” as required at the time it is filed.

FOR FURTHER INFORMATION CONTACT: Sharon P. McDonald, Mass Media Bureau, (202) 418-2180.

SUPPLEMENTARY INFORMATION: This is a synopsis of the Commission's Report and Order, MM Docket No. 99-196, adopted November 7, 2001, and released November 16, 2001. The full text of this Commission decision is available for inspection and copying during normal business hours in the FCC Reference Information Center (Room CY-A257), 445 12th Street, SW., Washington, DC. The complete text of this decision may also be purchased from the Commission's copy contractors, Qualex, International, Portals II, 445 12th Street, SW., Room CY-B402, Washington, DC 20554.

Federal Communications Commission.
John A. Karousos,
Chief, Allocations Branch, Policy and Rules Division, Mass Media Bureau.

[FR Doc. 01-30389 Filed 12-7-01; 8:45 am]

BILLING CODE 6712-01-P